DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs will be held April 9-10, 2008, in Room 230, at VA Central Office, 810 Vermont Avenue, NW., Washington, DC. The sessions will convene at 8:30 a.m. each day and will adjourn at 4:30 p.m. on April 9 and will end at 12 Noon on April 10. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or visual impairment, loss of extremities or loss of function, deafness or hearing impairment, and other serious incapacities in terms of daily life functions.

On April 9, the Committee will be briefed by the Chief Consultant for Rehabilitation Services; Director, Chiropractic Care; Assistant Director, Compensation and Pension Service, Veterans Benefits Administration; Chief Consultant, Office of Care Coordination; Director, Physical Medicine and Rehabilitation Service; Acting Director, Blind Rehabilitation Service and Chief Consultant, Spinal Cord Injury and Disorders. On April 10, the Committee will be briefed by the Chief, Library Service.

Time is not allocated for receiving oral presentations from the public. However, members of the public may direct questions or submit written statements in advance of the meeting for review by the Committee to Mr. Larry N. Long, Designated Federal Officer, Veterans Health Administration, Patient Care Services, Rehabilitation Services, Department of Veterans Affairs, 810 Vermont Avenue, NW., Washington, DC 20420. Any member of the public wishing to attend the meeting should contact Mr. Long at (202) 461-7354.

Dated: March 11, 2008.
By Direction of the Secretary:
E. Philip Riggin,
Committee Management Officer.

[FR Doc. E8-5319 Filed 3-17-08; 8:45 am]

BILLING CODE 8320-01-M